FEDERAL MARITIME COMMISSION

Ocean Transportation Intermediary License; Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
017198F | OMJ International Freight Inc., 8423 NW., 68th Street, Miami, FL 33166 | June 23, 2006.
016012F | Samari Global Trade, Inc., 1310 Beach Avenue, Bronx, NY 10472 | June 4, 2006.

Peter J. King,
Deputy Director, Bureau of Certification, and Licensing.

[FR Doc. 06-7806 Filed 9-19-06; 8:45 am]

BILLING CODE 6730-01-P